DEPARTMENT OF THE TREASURY

Internal Revenue Service

26 CFR Part 1

[REG-119283-23]

RIN 1545-BR17

Section 45Y Clean Electricity Production Credit and Section 48E Clean Electricity Investment Credit; Correction

AGENCY: Internal Revenue Service (IRS), Treasury.

ACTION: Notice of proposed rulemaking; correction.

SUMMARY: This document corrects a notice of proposed rulemaking (REG-119283-23) published in the Federal Register on June 3, 2024, containing proposed regulations relating to the clean electricity production credit and the clean electricity investment credit established by the Inflation Reduction Act of 2022.

DATES: Written or electronic comments and requests for a public hearing are still being accepted and must be received by August 2, 2024.

ADDRESSES: Commenters were strongly encouraged to submit public comments electronically via the Federal eRulemaking Portal at https://www.regulations.gov (indicate IRS and REG-119283-23) by following the online instructions for submitting comments. Requests for a public hearing must be submitted as prescribed in the “Comments and Requests for a Public Hearing” section of the notice of proposed rulemaking published on June 3, 2024 (89 FR 47792). Once submitted to the Federal eRulemaking Portal, comments cannot be edited or withdrawn. The Department of the Treasury (Treasury Department) and the IRS will publish for public availability any comments submitted to the IRS's public docket. Send paper submissions to: CC:PA:01:PR (REG-119283-23), Room 5203, Internal Revenue Service, P.O. Box 7604, Ben Franklin Station, Washington, DC 20044.

FOR FURTHER INFORMATION CONTACT: Concerning the proposed regulations, the Office of Chief Counsel (Passthroughs and Special Industries) at (202) 317-6853 (not a toll-free number); concerning submissions of comments or the public hearing, the Publications and Regulations Section, (202) 317-6901 (not toll-free number) or by email to publichearings@irs.gov (preferred).

SUPPLEMENTARY INFORMATION:

Background

The notice of proposed rulemaking (REG-119283-23) that is the subject of these corrections are under sections 45Y and 45E of the Code.

Need for Correction

As published, the notice of proposed rulemaking (REG-119283-23) contains errors that need to be corrected.

Correction of Publication

Accordingly, the notice of proposed rulemaking (REG-119283-23) that is the subject of FR Doc. 2024-11719, published on June 3, 2024, is corrected as follows:

1. On page 47799, the first column, the second sentence of the first paragraph is corrected to read “Proposed § 1.45Y-2(b)(2)(i) would clarify that no provision of this section, § 1.45Y-1, or § 1.45Y-4 through § 1.45Y-5 uses the term “unit” in respect of a qualified facility with any meaning other than that provided in § 1.45Y-2(b)(2)(i)”.

2. On page 47812, the second column, in line thirty-one of the first full paragraph, the language “eligible” is corrected to read “ineligible”.

3. On page 47812, the third column, the second line from the bottom of the column is corrected to read “the calculation of the section 48E credit.”.

4. On page 47813, the third column, under the heading “2. Functionally Interdependent”, the third line is corrected to read “facility includes functionally interdependent”.

5. On page 47814, the third column, under the heading “a. Generally” the fourth line from the bottom of the paragraph is corrected to read “is used as an integral part (as defined in”.

6. On page 47815, the third column, the third line of the column is corrected to read “§ 1.48E-2(f)(7)(i), a qualified facility”.

7. On page 47815, the third column, in the last line of the column the language “paragraph” is removed.

8. On page 47816, the first column, in the seventh line the language “§ 1.48E-3” is corrected to read “§ 1.48E-4”.

9. On page 47818, the first column, in the seventh line from the bottom of the first full paragraph, the language “48E(a)(2)(B)(ii)(I)” is corrected to read “48E(a)(2)(A)(ii)(I)”.

10. On page 47820, the first column, the sixteenth line of the first full paragraph is corrected to read “value obtained from DOE will be based on an”.

11. On page 47822, the third column, the sixth line of the first full paragraph is corrected to read “necessary definitions and rules regarding the”.

12. On page 47822, the third column, the sixth line from the bottom of the first full paragraph is corrected to read “energy facilities and energy storage technologies. Thus the”.

13. On page 47822, the third column, the sixth and seventh lines of the third full paragraph are corrected to read “investment in clean energy facilities and energy storage technologies. Because the potential credit”.

14. On page 47823, the first column, the seventh line of the column is corrected to read “in facilities that”.

§ 1.45Y-1 [Corrected]

15. On page 47827, the second column, the second line of paragraph (c)(5) is corrected to read “purposes of paragraph (c)(3)(i) of this”.

§ 1.45Y-2 [Corrected]

16. On page 47828, the first column, lines two through six of paragraph (b)(2)(ii) is corrected to read “Components of property are functionally interdependent if the placing in service of each of the components is dependent upon the placing in service of each of the other components to produce electricity.

§ 1.45Y-4 [Corrected]

17. On page 47830, the third column, the second line of paragraph (d)(3)(i) is corrected to read “meets the 80/20 Rule. A owns an”.

§ 1.48E-2 [Corrected]

18. On page 47837, the second column, the twentieth line of paragraph (b)(3)(ii) is corrected to read “generated by a qualified facility and”.

§ 1.48E-5 [Corrected]

19. On page 47845, the second column, the fourteenth line of paragraph (g)(3) is corrected to read “DOE or by using the designated lifecycle analysis (LCA)”.

Oluwafunmilayo A. Taylor,
Section Chief, Publications and Regulations Section, Associate Chief Counsel, (Procedure and Administration).

[FR Doc. 2024-15718 Filed 7-17-24; 8:45 am]

BILLING CODE 4830-01-P